FEDERAL COMMUNICATIONS COMMISSION

[OMB 3060-0398]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before November 8, 2019. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

SUPPLEMENTARY INFORMATION:

OMB Control Number: 3060-0398.

Title: Sections 15.117(g)(2), 15.201(a), 15.201(d), 15.211, 15.213 and 15.221(c))—Equipment Authorization Measurement Standards.

Form No.: N/A.

Type of Review: Extension of a currently approved collection.

Respondents: Business or other for-profit entities.

Number of Respondents and Responses: 250 respondents; 250 responses.

Estimated Time per Response: 15.4 hours (average).

Frequency of Response: On occasion, and one-time reporting requirements, recordkeeping requirement and third-party disclosure requirement.

Obligation to Respond: Required to obtain or retain benefits. Statutory authority for this information collection is contained in 47 U.S.C. 4(i), 302, 303(c), 303(f), 303(g) and 303(r), and 309(a).

Total Annual Burden: 3,850 hours.

Total Annual Cost: $50,000.

Privacy Act Impact Assessment: No impact(s).

Nature and Extent of Confidentiality: There is a minimal exemption from the Freedom of Information Act (FOIA), 5 U.S.C. 552(b)(4) and 47 CFR 0.459(d) of the Commission's rules that is granted for trade secrets, which may be submitted to the Commission as part of the documentation of the test results. No other assurances of confidentiality are provided to respondents.

Needs and Uses: The Commission will submit this information collection after this 60 day comment period to obtain the full three year clearance from the Office of Management and Budget (OMB). There is a change in the Commission's estimated respondents/responses and/or total annual burden hours.

To ensure that technical standards are applied uniformly, the Commission requires respondents to follow appropriate equipment authorization procedures specified in subpart J of part 2 of the Commission's rules. These requirements require manufacturers to comply with certain information collection requirements common to all equipment.¹ In addition to these general requirements, the responsible parties for certain types of equipment must maintain special records as specified by the requirements for those devices.

¹ See OMB Information Collection 3060-0057, 3060-0329 and 3060-0636.

(a) 47 CFR 15.117(g)(2) of the Commission's rules requires that the responsible party (usually the manufacturer) for equipment insert in its files a statement explaining the basis on which the manufacturer relies to ensure that at least 97.5% of all production units of the test sample that are manufactured have a noise figure of no greater than 14 dB.

(b) 47 CFR 15.201(a) requires that devices operated under the provisions of 47 CFR 15.211, 15.213 and 15.221 of the Commission's rules comply with certain additional requirements.

(c) The Commission's rules permit the operation of field disturbance sensors in the low VHF region of the spectrum, subject to requirements in 47 CFR 15.201(d).

(1) Such systems have the potential for interfering with television broadcasting and other radio communication signals.

(2) The Commission requires a unique procedure for on-site testing and compliance verification of these systems to ensure that suitable safeguards are in place for the operation of these devices in the VHF range of the spectrum.

The Commission is seeking the Office of Management and Budget (OMB) approval to revise the information collection requirements contained in OMB Control No. 3060-0387 and consolidate them into this collection. After OMB approval is received, the FCC will discontinue OMB Control No. 3060-0387 and have it removed from OMB's Active Inventory.

Federal Communications Commission.
Marlene Dortch,
Secretary, Office of the Secretary.

[FR Doc. 2019-19405 Filed 9-6-19; 8:45 am]

BILLING CODE 6712-01-P